DEPARTMENT OF THE INTERIOR

Bureau of Land Management

[LLAZ931000. L71220000.EU0000. LVTFA1158520 241A; AZA-35598]

Notice of Realty Action: Direct Sale of Public Land in Pinal County, AZ

AGENCY: Bureau of Land Management, Interior.

ACTION: Notice of realty action.

SUMMARY: The Bureau of Land Management (BLM), Lower Sonoran Field Office (LSFO), proposes a noncompetitive direct sale of one land parcel totaling approximately 160 acres in Pinal County, Arizona. The public land would be sold to the Ak-Chin Indian Community (Community) at not less than the appraised fair market value (FMV). The sale will be subject to the applicable provisions of Sections 203 and 209 of the Federal Land Policy and Management Act of 1976, as amended (FLPMA) and sales and mineral conveyance regulations.

DATES: Comments regarding the proposed direct sale must be received by the BLM within 45 days of the date this notice is published in the Federal Register.

ADDRESSES: Written comments concerning the proposed direct sale should be sent to Penny Foreman, Acting Field Manager, LSFO, Phoenix District Office, 21605 North 7th Avenue, Phoenix, AZ 85027.

FOR FURTHER INFORMATION CONTACT: JoAnn Goodlow, Realty Specialist, at the above address or phone 623-580-5548. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The following parcel of public land is proposed for direct sale to the Community and is legally described as follows:

Gila and Salt River Meridian

T. 5 S., R. 4 E.,

Sec. 13, NW¼.

The area described contains 160 acres, more or less, in Pinal County, Arizona. Consistent with Section 203 of FLPMA, a tract of public land may be sold where, as a result of approved land use planning, sale of the tract meets the disposal criteria of that section. The land was identified as suitable for disposal in the BLM—Lower Sonoran Record of Decision and Resource Management Plan (RMP) approved on September 14, 2012. The parcel is difficult and uneconomical to manage as part of the public land and is not suitable for management by another Federal department or agency. It is not needed for any other Federal purpose. No potentially significant resource conflicts, legal issues, land, or resource management issues have been identified. The property is a relatively isolated tract, and there are no known uses currently occurring on the property. Regulations contained in 43 CFR 2710.0-6(c)(3)(iii) and 43 CFR 2711.3-3(a)(1) make allowances for direct sales when a competitive sale is not appropriate, and other conditions are met. The Community, who is considered a local government, wishes to purchase the parcel to better serve the public interest by using the land for development purposes to enhance the use and viability of the Community's Phoenix Regional Airport (PRA), which is immediately west of the public land parcel. As such, the BLM has concluded the public interest would be best served by a direct sale. The BLM has prepared a mineral potential report, dated March 19, 2012, which concluded that there are no known mineral values in the land proposed for direct sale. Therefore, the BLM proposes that the conveyance of the Federal mineral interest occur simultaneously with the sale.

The segregation will commence on the date of publication in the Federal Register, and the above described land will be segregated from all appropriation under the public land laws, including the mining laws, except for the sale provisions of FLPMA. Until completion of the sale, the BLM will no longer accept land use applications affecting the identified public land, except application for the amendment of previously filed right-of-way applications or existing authorizations to increase the term of the grants in accordance with 43 CFR 2807.15. The segregation will terminate upon issuance of a patent, publication in the Federal Register of a termination of the segregation, or two years from the date of publication in the Federal Register, unless extended by the BLM Arizona State Director in accordance with 43 CFR 2711.1-2(d) prior to the termination date. In addition to the appraised FMV, the Community would be required to pay a $50 nonrefundable filing fee for conveyance of the available mineral interests and the associated administrative costs. The following terms and conditions would appear as reservations to the United States on the conveyance document for this parcel:

1. A right-of-way thereon for ditches or canals constructed by the authority of the United States, Act of August 30, 1890 (43 U.S.C. 945).

2. The conveyance is subject to all valid existing rights of record.

3. Right-of-way AZA-21392 for road purposes granted to Pinal County Highway Department, its successors or assigns, pursuant to the Act of July 26, 1866 (43 U.S.C. 932) is reserved.

4. Additional terms and conditions that the authorized officer deems appropriate. A map delineating the proposed direct sale parcel and Mineral Potential Report are available for public review at the LSFO, which is located at the address above. The FMV for the sale parcel will be available for review 60 days prior to the sale date. Preliminary inspections have revealed no indication of hazardous materials. A biological evaluation, a cultural resources survey, and an environmental assessment (EA) are being prepared for the proposed direct sale. When completed, the EA will also be available for review at the BLM LSFO. The map and EA will also be viewable at the following Web site: http://www.blm.gov/az/st/en/info/nepa/log.html.

Public comments concerning the proposed direct sale may be submitted in writing to the attention of the BLM Lower Sonoran Field Manager (see ADDRESSES above) on or before 45 days from publication of this notice in the Federal Register. Any adverse comments regarding the proposed direct sale will be reviewed by the BLM Lower Sonoran Field Manager or other authorized official of the Department of the Interior, who may sustain, vacate, or modify this realty action in whole or in part. In the absence of timely filed objections, this realty action will become the final determination of the Department of the Interior.

Before including your address, phone number, email address, or other personal identifying information in your comment, be advised that your entire comment—including your personal identifying information—may be made publicly available at any time. While you can ask us in your comment to withhold from public review your personal identifying information, we cannot guarantee that we will be able to do so.

Authority: 43 CFR 2711.1-2)

Penny Foreman,
Acting Field Manager, Lower Sonoran Field Office.

[FR Doc. 2013-05461 Filed 3-7-13; 8:45 am]

BILLING CODE 4310-32-P